DEPARTMENT OF THE TREASURY

Office of Foreign Assets Control

Unblocking of Specially Designated Nationals and Blocked Persons Pursuant To Executive Order 13288, Executive Order 13391, and Executive Order 13469

AGENCY: Office of Foreign Assets Control, Treasury.

ACTION: Notice.

SUMMARY: The Treasury Department's Office of Foreign Assets Control (OFAC) is publishing the names of nine individuals and 11 entities whose property and interests in property have been unblocked pursuant to Executive Order 13288 of March 6, 2003, “Blocking Property of Persons Undermining Democratic Processes or Institutions in Zimbabwe,” Executive Order 13391 of November 22, 2005, “Blocking Property of Additional Persons Undermining Democratic Processes or Institutions in Zimbabwe,” and Executive Order 13469 of July 25, 2008, “Blocking Property of Additional Persons Undermining Democratic Processes or Institutions in Zimbabwe.”

DATES: OFAC's actions described in this notice are effective as of October 4, 2016.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410 (not toll free numbers).

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202/622-0077.

Notice of OFAC Actions

A. On October 4, 2016, OFAC, in consultation with the State Department, removed from the SDN List the individuals and entities listed below, whose property and interests in property were blocked pursuant to Executive Order 13288 (E.O. 13288), Executive Order 13391 (E.O. 13391), and Executive Order 13469 (E.O. 13469).

1. CHAPFIKA, Abina DOB 23 Aug 1961 Passport ZE190297 (Zimbabwe) Spouse of David Chapfika (individual) [ZIMBABWE—E.O. 13391].

2. CHARAMBA, Rudo Grace DOB 20 Jun 1964 Spouse of George Charamba (individual) [ZIMBABWE—E.O. 13391].

3. CHIGWEDERE, Aeneas Soko; DOB 25 Nov 1939; Minister of Education, Sports and Culture (individual) [ZIMBABWE—E.O. 13288, E.O. 13391].

4. CHIWENGA, Jocelyn Mauchaza DOB 19 May 1955 Passport AN061550 (Zimbabwe) Spouse of Constantine Chiwenga (individual) [ZIMBABWE—E.O. 13391].

5. CHOMBO, Ever; No. 38, 39th Crescent, Warrenton Park, Harare, Zimbabwe DOB 20 Sep 1956 Passport AN845280 (Zimbabwe) Spouse of Ignatius Chombo (individual) [ZIMBABWE—E.O. 13391].

6. MSIPA, Cephas George; DOB 07 Jul 1931; Passport ZD001500 (Zimbabwe); Midlands Provincial Governor (individual) [ZIMBABWE—E.O. 13391].

7. MUGABE, Sabina DOB 14 Oct 1934 Politburo Senior Committee Member (individual) [ZIMBABWE—E.O. 13288, E.O. 13391].

8. NKOMO, Georgina Ngwenya; 59 Muchbimding Road, Worringham, Bulawayo, Zimbabwe DOB 4 Aug 1966 Spouse of John Nkomo (individual) [ZIMBABWE—E.O. 13391].

9. UTETE, Charles Manhamu DOB 30 Oct 1938 Former Cabinet Secretary; Passport ZD002097 (Zimbabwe) (individual) [ZIMBABWE—E.O. 13288, E.O. 13391].

10. GOWRIE FARM; City of Norton (entity) [ZIMBABWE—E.O. 13391].

11. LONGWOOD FARM (entity) [ZIMBABWE—E.O. 13391].

12. R/E OF MLEMBWE FARM; City of Mlembwe (entity) [ZIMBABWE—E.O. 13391].

13. ZB FINANCIAL HOLDINGS LIMITED (a.k.a. ZIMBABWE FINANCIAL HOLDINGS LIMITED; a.k.a. FINHOLD; a.k.a. WWW.ZB.CO.ZW), National Identification Number 1278-89, 10th Floor ZB House 46 Speke Avenue P.O. Box 3198, Harare, Phone Number 263-4-751168; Fax Number 263-4-251029 (entity) [ZIMBABWE—E.O. 13469].

14. ZB BANK LIMITED (a.k.a. ZIMBABWE BANKING CORPORATION LIMITED; a.k.a. ZB BANK; a.k.a. ZBCL; a.k.a. ZIMBANK), Zimbank House Cnr. 1st Street/Speke Avenue P.O. Box 3198, Harare, Phone Number 263-4-751168; Fax Number 263-4-757497(entity) [ZIMBABWE—E.O. 13469].

15. ZB HOLDINGS LIMITED, 10th Floor ZB House 46 Speke Avenue P.O. Box 3198, Harare, Phone Number 263-4-751168; Fax Number 263-4-251029 (entity) [ZIMBABWE—E.O. 13469].

16. INTERMARKET HOLDINGS LIMITED, 10th Floor ZB House 46 Speke Avenue P.O. Box 3198, Harare, Phone number 263-4-751168; Fax Number 263-4-251029 (entity) [ZIMBABWE—E.O. 13469].

17. SCOTFIN LIMITED, 10th Floor ZB House 46 Speke Avenue P.O. Box 3198, Harare, Phone Number 263-4-751168; Fax Number 263-4-251029 (entity) [ZIMBABWE—E.O. 13469].

18. INDUSTRIAL DEVELOPMENT CORPORATION OF ZIMBABWE LTD (a.k.a. Industrial Development Corporation of Zimbabwe), P.O. Box CY1431 Causeway, Harare; 93 Park Lane, Harare, Phone Number 263-4-794805; Fax Number 263-4-250385 (entity) [ZIMBABWE—E.O. 13469].

19. CHEMPLEX CORPORATION LIMITED (a.k.a. Chemplex Corporation Ltd), 93 Park Lane P.O. Box 989, Harare; 10 Bilston Street, Bulawayo; 35 Coventry Road, Harare, Linked to Industrial Development Corporation of Zimbabwe Ltd (entity) [ZIMBABWE—E.O. 13469].

20. ZIMBABWE FERTILISER COMPANY (a.k.a. ZFC Limited), 35 Coventry Road, Workington, Harare; Ambleside Road, Aspindale Park, Harare; Sable Chemicals Complex, Lot 1/7, Sherwood Block, Kwekwe, Linked to Chemplex Corporation Limited (entity) [ZIMBABWE—E.O. 13469].

B. On October 4, 2016, OFAC published the following revised identifier information for one individual on OFAC's SDN List whose property and interests in property are blocked pursuant to E.O. 13391:

1. MUGABE, Leo (a.k.a. “CDE MUGABE”), 72 Green Groove Drive, Greendale, Harare, Zimbabwe; DOB 28 Feb 1957; alt. DOB 28 Aug 1962; MP for Makonde; Nephew of Robert MUGABE (individual) [ZIMBABWE].

Dated: October 4, 2016.
John E. Smith,
Acting Director, Office of Foreign Assets Control.

[FR Doc. 2016-24398 Filed 10-7-16; 8:45 am]

BILLING CODE 4810-AL-P